DEPARTMENT OF THE INTERIOR

Fish and Wildlife Service

50 CFR Part 17

[Docket Nos. FWS-R8-ES-2015-0017, FWS-HQ-ES-2015-0018, FWS-HQ-ES-2015-0019, FWS-HQ-ES-2015-0020, FWS-R8-ES-2015-0021, FWS-R1-ES-2014-0061, FWS-R8-ES-2015-0022, FWS-R8-ES-2015-0023, FWS-R8-ES-2015-0024, FWS-R7-ES-2015-0025;4500030115]

Endangered and Threatened Wildlife and Plants; 90-Day Findings on 10 Petitions

AGENCY: Fish and Wildlife Service, Interior.

ACTION: Notice of petition findings and initiation of status reviews.

SUMMARY: We, the U.S. Fish and Wildlife Service (Service), announce 90-day findings on various petitions to list eight species, reclassify one species, and delist one species under the Endangered Species Act of 1973, as amended (Act). Based on our review, we find that these 10 petitions present substantial scientific or commercial information indicating that the petitioned actions may be warranted. Therefore, with the publication of this document, we are initiating a review of the status of each of these species to determine if the petitioned actions are warranted. The status reviews for two species, the golden conure (which appears in the List of Endangered and Threatened Wildlife as the golden parakeet) and the northern spotted owl, will also serve as 5-year reviews for those species. To ensure that these status reviews are comprehensive, we are requesting scientific and commercial data and other information regarding these species. Based on the status reviews, we will issue 12-month findings on the petitions, which will address whether the petitioned action is warranted, as provided in section 4(b)(3)(B) of the Act.

DATES: To allow us adequate time to conduct the status reviews, we request that we receive information on or before June 9, 2015. Information submitted electronically using the Federal eRulemaking Portal (see ADDRESSES, below) must be received by 11:59 p.m. Eastern Time on the closing date.

ADDRESSES: You may submit information on species for which a status review is being initiated by one of the following methods:

(1) Electronically: Go to the Federal eRulemaking Portal: http://www.regulations.gov. In the Search box, enter the appropriate docket number (see table below). Then click the Search button. You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see table below]; U.S. Fish and Wildlife Service, MS: BPHC, 5275 Leesburg Pike; Falls Church, VA 22041-3803.

We request that you send information only by the methods described above. We will post all information received on http://www.regulations.gov. This generally means that we will post any personal information you provide us (see the Request for Information section, below, for more details).

Species | Docket No.
Clear Lake hitch | FWS-R8-ES-2015-0017
Egyptian tortoise | FWS-HQ-ES-2015-0018
Golden conure | FWS-HQ-ES-2015-0019
Long-tailed chinchilla | FWS-HQ-ES-2015-0020
Mojave shoulderband snail | FWS-R8-ES-2015-0021
Northern spotted owl | FWS-R1-ES-2014-0061
Relict dace | FWS-R8-ES-2015-0022
San Joaquin Valley giant flower-loving fly | FWS-R8-ES-2015-0023
Western pond turtle | FWS-R8-ES-2015-0024
Yellow-cedar | FWS-R7-ES-2015-0025

FOR FURTHER INFORMATION CONTACT:

Species | Contact information
Clear Lake hitch | Jennifer Norris, telephone (916)-414-6600.
Egyptian tortoise | Janine Van Norman, telephone (703) 358-2171.
Golden conure | Janine Van Norman, telephone (703) 358-2171.
Long-tailed chinchilla | Janine Van Norman, telephone (703) 358-2171.
Mojave shoulderband snail | Mendel Stewart, telephone (760) 431-9440.
Northern spotted owl | Paul Henson, telephone (503) 231-6179.
Relict dace | Edward D. Koch, telephone (775) 861-6300.
San Joaquin Valley giant flower-loving fly | Jennifer Norris, telephone (916) 414-6600.
Western pond turtle | Jennifer Norris, telephone (916) 414-6600.
Yellow-cedar | Steve Brockmann, telephone (907) 780-1181.

If you use a telecommunications device for the deaf (TDD), please call the Federal Information Relay Service (FIRS) at 800-877-8339.

SUPPLEMENTARY INFORMATION:

Request for Information

When we make a finding that a petition presents substantial information indicating that listing, reclassification, or delisting a species may be warranted, we are required to promptly review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns;

(d) Historical and current population levels, and current and projected trends; and

(e) Past and ongoing conservation measures for the species, its habitat, or both.

(2) The factors that are the basis for making a listing, reclassification, or delisting determination for a species under section 4(a)(1) of the Act (16 U.S.C. 1531 et seq.), which are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat.

(4) For the northern spotted owl, we specifically request information on:

(a) Evidence that any of the factors identified under Factor A are having population-level effects on the northern spotted owl, either singularly or in combination;

(b) Evidence that the West Nile virus or predation by barred owls have caused population-level impacts on northern spotted owls;

(c) Identification of shortcoming in existing regulations that are having population-level effects on the northern spotted owl;

(d) Evidence that competition with barred owls is having population-level effects on the northern spotted owl; and

(e) Evidence that global climate change is having population-level effects on the northern spotted owl.

(5) For those domestic (U.S.) species that are not listed, if, after the status review, we determine that listing is warranted, we will propose critical habitat (see definition in section 3(5)(A) of the Act) under section 4 of the Act for those species that fall within the jurisdiction of the United States, to the maximum extent prudent and determinable at the time we propose to list the species. Therefore, we also specifically request data and information for Clear Lake hitch, Mojave shoulderband snail, relict dace, San Joaquin Valley giant flower-loving fly, western pond turtle, and yellow-cedar on:

(a) What may constitute “physical or biological features essential to the conservation of the species,” within the geographical range occupied by the species;

(b) Where these features are currently found;

(c) Whether any of these features may require special management considerations or protection;

(d) Specific areas outside the geographical area occupied by the species that are “essential for the conservation of the species”; and

(e) What, if any, critical habitat you think we should propose for designation if the species is proposed for listing, and why such habitat meets the requirements of section 4 of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding will be available for you to review at http://www.regulations.gov, or you may make an appointment during normal business hours at the appropriate lead U.S. Fish and Wildlife Service Field Office (see FOR FURTHER INFORMATION CONTACT).

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a review of the status of the species, which we will subsequently summarize in our 12-month finding.

Section 4 of the Act (16 U.S.C. 1533) and its implementing regulations at 50 CFR 424 set forth the procedures for adding a species to, or removing a species from, the Federal Lists of Endangered and Threatened Wildlife and Plants. A species may be determined to be an endangered or threatened species due to one or more of the five factors described in section 4(a)(1) of the Act (see (2) under Request For Information, above).

We may delist a species according to 50 CFR 424.11(d) if the best available scientific and commercial data indicate that the species is neither an endangered nor threatened species for one or more of the following reasons:

(1) The species is extinct;

(2) The species has recovered and is no longer an endangered or threatened species; or

(3) The original scientific or commercial data used at the time the species was classified, or the interpretation of such data, were in error.

In considering what factors might constitute threats, we must look beyond the exposure of the species to a factor to evaluate whether the species may respond to the factor in a way that causes actual impacts to the species. If there is exposure to a factor and the species responds negatively, the factor may be a threat, and, during the subsequent status review, we attempt to determine how significant a threat it is. The threat is significant if it drives, or contributes to, the risk of extinction of the species such that the species may warrant listing as an “endangered species” or a “threatened species,” as those terms are defined in the Act. However, the identification of factors that could affect a species negatively may not be sufficient for us to find that the information in the petition and our files is substantial. The information must include evidence sufficient to suggest that these factors may be operative threats that act on the species to the point that the species may meet the definition of an “endangered species” or “threatened species” under the Act.

Evaluation of a Petition To List the Clear Lake Hitch as an Endangered or Threatened Species Under the Act

Additional information regarding our review of this petition can be found as an appendix at http://www.regulations.gov under Docket No. FWS-R8-ES-2015-0017 under the Supporting Documents section.

Species and Range

Clear Lake hitch (Lavinia exilicauda chi); California

Petition History

On January 13, 2013, the California Department of Fish and Wildlife drafted a recommendation to the California Fish and Game Commission to list the Clear Lake hitch as threatened species under the California Endangered Species Act. On September 25, 2014, we received a petition dated September 25, 2014, from the Center for Biological Diversity, requesting that Clear Lake hitch be listed as a endangered or threatened species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Clear Lake hitch (Lavinia exilicauda chi) based on Factors A, B, C, and E.

Thus, for the Clear Lake hitch, the Service requests information on the five listing factors under section 4(a)(1) of the Act, including the factors identified in this finding (see Request for Information, above).

Evaluation of a Petition To List the Egyptian Tortoise as an Endangered or Threatened Species Under the Act

Additional information regarding our review of this petition can be found as an appendix at http://www.regulations.gov under Docket No. FWS-HQ-ES-2015-0018 under the Supporting Documents section.

Species and Range

Egyptian tortoise (Testudo kleinmanni); Egypt, Libya, Israel

Petition History

On June 9, 2014, we received a petition dated May 2014, from Friends of Animals, requesting that the Egyptian tortoise be listed as an endangered or threatened species under the Act. The petition clearly identified itself as such and included the requisite identification information for the petitioner, required at 50 CFR 424.14(a). In a letter to the petitioner, we responded that we reviewed the information presented in the petition and did not find that the species warranted emergency listing. This finding addresses the petition.

Finding

Based on our review of the petition and sources cited in the petition, we find that the petition presents substantial scientific or commercial information indicating that the petitioned action may be warranted for the Egyptian tortoise (Testudo kleinmanni) based on Factors A, B, C, D, and E.

Thus, for the Egyptian tortoise, the Service requests information on the five listing factors under section 4(a)(1) of the Act (see Request for Information, above).

Evaluation of a Petition To Delist the Golden Conure Under the Act

Additional information regarding our review of this petition can be found as an appendix at http://www.regulations.gov under Docket No. FWS-HQ-ES-2015-0019 under the Supporting Documents section.

Species and Range

Golden conure (Guaruba guarouba or Aratinga guarouba); Brazil. (Note: The species is listed as “golden parakeet” (Aratinga guarouba) in the List of Endangered and Threatened Wildlife at 50 CFR 17.11(h). However, we refer to the species by the common name “golden conure” in this document.)

Petition History

On August 21, 2014, we received a petition dated August 20, 2014, from the American Federation of Aviculture, Inc., requesting that the golden conure be removed from the Federal List of Endangered and Threatened Wildlife (i.e., “delisted”) pursuant to the Act. The petition clearly identified itself as such and included the requisite identification information for the petitioner, required at 50 CFR 424.14(a). This finding addresses the petition.

Finding

Based on our review of the petition and sources cited in the petition, we find that the petition presents substantial scientific or commercial information indicating that the petitioned action may be warranted for the golden conure (Guaruba guarouba or Aratinga guarouba) based on new population estimates and Fnew information relating to actors A, B, and D.

Thus, for the golden conure, the Service requests information on the five listing factors under section 4(a)(1) of the Act, including the factors identified in this finding (see Request for Information, above).

Evaluation of a Petition To List the Long-Tailed Chinchilla as an Endangered or Threatened Species Under the Act

Additional information regarding our review of this petition can be found as an appendix at http://www.regulations.gov under Docket No. FWS-HQ-ES-2015-0020 under the Supporting Documents section.

Species and Range

Long-tailed chinchilla (Chinchilla lanigera); Chile

Petition History

On October 14, 2014, we received a petition dated October 7, 2014, from Friends of Animals, requesting that the long-tailed chinchilla be listed as a endangered or threatened species under the Act. The petition clearly identified itself as such and included the requisite identification information for the petitioner, required at 50 CFR 424.14(a). In a November 17, 2014, letter to the petitioner, we responded that we reviewed the information presented in the petition and did not find that the species warranted emergency listing. This finding addresses the petition.

Finding

Based on our review of the petition and sources cited in the petition, we find that the petition presents substantial scientific or commercial information indicating that the petitioned action may be warranted for the long-tailed chinchilla (Chinchilla lanigera) based on Factors A, B, D, and E.

Thus, for the long-tailed chinchilla, the Service requests information on the five listing factors under section 4(a)(1) of the Act, including the factors identified in this finding (see Request for Information, above).

Evaluation of a Petition To List Mojave Shoulderband Snail as an Endangered or Threatened Species Under the Act

Additional information regarding our review of this petition can be found as an appendix at http://www.regulations.gov under Docket No. FWS-R8-ES-2015-0021 under the Supporting Documents section.

Species and Range

Mohave shoulderband snail (Helminthoglypta (coyote) greggi); California

Petition History

On January 31, 2014, we received a petition dated January 31, 2014, from the Center for Biological Diversity, requesting that Mohave shoulderband snail be listed as a endangered or threatened species under the Act. The petition clearly identified itself as such and included the requisite identification information for the petitioner, required at 50 CFR 424.14(a). In an April 4, 2014, letter to the petitioner, we responded that we reviewed the information presented in the petition and did not find that the species warranted emergency listing. This finding addresses the petition.

Finding

Based on our review of the petition and sources cited in the petition, we find that the petition presents substantial scientific or commercial information indicating that the petitioned action may be warranted for the Mohave shoulderband snail (Helminthoglypta (coyote) greggi)) based on Factors A, C, and E.

Thus, for the Mojave shoulderband snail, the Service requests information on the five listing factors under section 4(a)(1) of the Act, including the factors identified in this finding (see Request for Information, above).

Evaluation of a Petition To Reclassify the Northern Spotted Owl as an Endangered Species Under the Act

Additional information regarding our review of this petition can be found as an appendix at http://www.regulations.gov under Docket No. FWS-R1-ES-2014-0061 under the Supporting Documents section.

Species and Range

Northern spotted owl (Strix occidentalis caurina); California, Oregon, and Washington, U.S.A.; British Columbia, Canada.

Petition History

On August 21, 2012, we received a petition dated August 15, 2012, from Environmental Protection Information Center, requesting that the northern spotted owl (Strix occidentalis caurina) be listed as an endangered species under the Act. We published a final rule to list the northern spotted owl as a threatened species under the Act on June 26, 1990 (55 FR 28114); the effective date of that rule was July 23, 1990. The petition clearly identified itself as such and included the requisite identification information for the petitioner, as required by 50 CFR 424.14(a). In a September 27, 2012, letter to the petitioner, we responded that we reviewed the information presented in the petition and did not find that the species warranted emergency uplisting. We also issued a letter to the petitioner on April 17, 2014, informing them of our anticipated timeline for publication of the 90-day and 12-month findings. This finding addresses the petition.

Finding

Based on our review of the petition and sources cited in the petition, we find that the petition presents substantial information that the petitioned action may be warranted for the northern spotted owl (Strix occidentalis caurina) based on Factors A, C, D, and E.

Thus, for the northern spotted owl, the Service requests information on the five listing factors under section 4(a)(1) of the Act, including the factors identified in this finding (see Request for Information, above).

Evaluation of a Petition To List the Relict Dace as an Endangered or Threatened Species Under the Act

Additional information regarding our review of this petition can be found as an appendix at http://www.regulations.gov under Docket No. FWS-R8-ES-2015-0022 under the Supporting Documents section.

Species and Range

Relict dace (Relictus solitarius); Nevada

Petition History

On June 27, 2014, we received a petition dated June 27, 2014, from Forest Service Employees for Environmental Ethics, requesting that relict dace be listed as an endangered species under the Act on an emergency basis. The petition clearly identified itself as such and included the requisite identification information for the petitioner, required at 50 CFR 424.14(a). In an August 25, 2014, letter to the petitioner, we responded that we reviewed the information presented in the petition and did not find that the species warranted emergency listing. This finding addresses the petition.

Finding

Based on our review of the petition and sources cited in the petition, we find that the petition presents substantial scientific or commercial information indicating that the petitioned action may be warranted for the relict dace (Relictus solitarius) based on Factors A, D, and E.

Thus, for the relict dace, the Service requests information on the five listing factors under section 4(a)(1) of the Act, including the factors identified in this finding (see Request for Information, above).

Evaluation of a Petition To List the San Joaquin Valley Giant Flower-Loving Fly as an Endangered or Threatened Species Under the Act

Additional information regarding our review of this petition can be found as an appendix at http://www.regulations.gov under Docket No. FWS-R8-ES-2015-0023 under the Supporting Documents section.

Species and Range

San Joaquin Valley giant flower-loving fly (Rhaphiomidas trochilus); California.

Petition History

On June 26, 2014, we received a petition dated June 26, 2014, from Gregory R. Ballmer and Kendall H. Osborne, requesting that San Joaquin Valley giant flower-loving fly be listed as an endangered species under the Act. The petition clearly identified itself as such and included the requisite identification information for the petitioner, required at 50 CFR 424.14(a). In a September 12, 2014, letter to the petitioner, we responded that we reviewed the information presented in the petition and did not find that the species warranted emergency listing. This finding addresses the petition.

Finding

Based on our review of the petition and sources cited in the petition, we find that the petition presents substantial scientific or commercial information indicating that the petitioned action may be warranted for the San Joaquin Valley giant flower-loving fly (Rhaphiomidas trochilus) based on Factors A and E.

Thus, for the San Joaquin Valley giant flower-loving fly, the Service requests information on the five listing factors under section 4(a)(1) of the Act, including the factors identified in this finding (see Request for Information, above).

Evaluation of a Petition To List the Western Pond Turtle as an Endangered or Threatened Species Under the Act

Additional information regarding our review of this petition can be found as an appendix at http://www.regulations.gov under Docket No. FWS-R8-ES-2015-0024 under the Supporting Documents section.

Species and Range

Western pond turtle or Pacific pond turtle (Actinemys marmorata; formerly Clemmys marmorata); California and Washington

Petition History

On July 11, 2012, we were petitioned by the Center for Biological Diversity to list 53 amphibian and reptile species across the United States. The western pond turtle was one of the species petitioned for listing.

Finding

Based on our review of the petition and sources cited in the petition, we find that the petition presents substantial scientific or commercial information indicating that the petitioned action may be warranted for the western pond turtle (Actinemys marmorata) based on Factor A.

Thus, for the western pond turtle, the Service requests information on the five listing factors under section 4(a)(1) of the Act, including the factor identified in this finding (see Request for Information, above).

Evaluation of a Petition To List Yellow-cedar as an Endangered or Threatened Species Under the Act

Additional information regarding our review of this petition can be found as an appendix at http://www.regulations.gov under Docket No. FWS-R7-ES-2015-0025 under the Supporting Documents section.

Species and Range

YellowYellow-cedar (Callitropsis nootkatensis); Alaska, California, Oregon, Washington, U.S.A.; Canada

Petition History

On June 24, 2014, we received a petition dated June 24, 2014, from Center for Biological Diversity, The Boat Company, Greater Southeast Alaska Conservation Community, and Greenpeace, requesting that yellow-cedar be listed as a endangered or threatenedspecies under the Act. The petition clearly identified itself as such and included the requisite identification information for the petitioner, required at 50 CFR 424.14(a). This finding addresses the petition.

Finding

Based on our review of the petition and sources cited in the petition, we find that the petition presents substantial scientific or commercial information indicating that the petitioned action may be warranted for yellow-cedar (Callitropsis nootkatensis) based on Factors A, B, and E.

Thus, for yellow-cedar, the Service requests information on the five listing factors under section 4(a)(1) of the Act, including the factors identified in this finding (see Request for Information, above).

Conclusion

On the basis of our evaluation of the information presented under section 4(b)(3)(A) of the Act, we have determined that the petitions summarized above for Clear Lake hitch, Egyptian tortoise, golden conure, long-tailed chinchilla, Mojave shoulderband snail, northern spotted owl, relict dace, San Joaquin Valley giant flower-loving fly, western pond turtle, and yellow-cedar present substantial scientific or commercial information indicating that the requested actions may be warranted. Because we have found that the petitions present substantial information indicating that the petitioned actions may be warranted, we are initiating status reviews to determine whether these actions under the Act are warranted. At the conclusion of the status reviews, we will issue a 12-month finding in accordance with section 4(b)(3)(B) of the Act, as to whether or not the Service believes listing, reclassification, or delisting, as appropriate, is warranted.

It is important to note that the “substantial information” standard for a 90-day finding as to whether the petitioned action may be warranted differs from the Act's “best scientific and commercial data” standard that applies to the Service's determination in a 12-month finding as to whether a petitioned action is in fact warranted. A 90-day finding is not based on a status review. In a 12-month finding, we will determine whether a petitioned action is warranted after we have completed a thorough status review of the species, which is conducted following a substantial 90-day finding. Because the Act's standards for 90-day and 12-month findings are different, as described above, a substantial 90-day finding does not mean that the 12-month finding will result in a warranted finding.

5-Year Review

The status reviews of golden conure and northern spotted owl will also serve as the 5-year reviews for thesetheses species. Section 4(c)(2)(A) of the Act requires that we conduct a review of listed species at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

References Cited

A complete list of references cited is available on the Internet at http://www.regulations.gov and upon request from the appropriate lead field offices (see FOR FURTHER INFORMATION CONTACT).

Authors

The primary authors of this document are the staff members of the Branch of Foreign Species, Ecological Services Program, U.S. Fish and Wildlife Service.

Authority

The authority for these actions is the Endangered Species Act of 1973, as amended (16 U.S.C. 1531 et seq.).

Dated: March 30, 2015.
Robert Dreher,
Acting Director, U.S. Fish and Wildlife Service.

[FR Doc. 2015-07837 Filed 4-9-15; 8:45 am]

BILLING CODE 4310-55-P